RAILROAD RETIREMENT BOARD

Sunshine Act Meeting

Notice is hereby given that the Railroad Retirement Board will hold a meeting on June 20, 2001, 9:00 a.m., at the Board's meeting room on the 8th floor of its headquarters building, 844 North Rush Street, Chicago, Illinois, 60611. The agenda for this meeting follows:

Portion open to the public:

(1) OMB Bulletin No. 01-07, Workforce Planning & Restructuring.

Portion closed to the public:

(A) Reassignment of Ms. Ruby Bland.

The person to contact for more information is Beatrice Ezerski, Secretary to the Board, Phone No. 312-751-4920.

Dated: June 11, 2001.
Beatrice Ezerski,
Secretary to the Board.

[FR Doc. 01-15104 Filed 6-12-01; 10:07 am]

BILLING CODE 7905-01-M